INTERNATIONAL TRADE COMMISSION

[Investigation Nos. 731-TA-1207-1208 (Review)]

Prestressed Concrete Steel Rail Tie Wire From China and Mexico; Termination of Five-Year Reviews

AGENCY: United States International Trade Commission.

ACTION: Notice.

SUMMARY: The Commission instituted the subject five-year reviews in May 2019 to determine whether revocation of the antidumping duty orders on prestressed concrete steel rail tie wire from China and Mexico would be likely to lead to continuation or recurrence of material injury. On June 10, 2019, the Department of Commerce published notice that it was revoking the orders effective June 24, 2019, because the domestic interested parties did not participate in these sunset reviews (84 FR 26816, June 10, 2019). Accordingly, the subject reviews are terminated.

DATES: June 14, 2019.

FOR FURTHER INFORMATION CONTACT: Mary Messer (202-205-3193), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: These reviews are being terminated under authority of title VII of the Tariff Act of 1930 and pursuant to section 751(c) of the Tariff Act of 1930 (19 U.S.C. 1675(c)). This notice is published pursuant to section 207.69 of the Commission's rules (19 CFR 207.69).

By order of the Commission.
Issued: June 17, 2019.
Lisa Barton,
Secretary to the Commission.

[FR Doc. 2019-13164 Filed 6-20-19; 8:45 am]

BILLING CODE 7020-02-P